DEPARTMENT OF HEALTH AND HUMAN SERVICES

Health Resources and Services Administration

National Practitioner Data Bank; Change in User Fee

The Health Resources and Services Administration (HRSA), Department of Health and Human Services (DHHS), is announcing a one dollar increase in the fee charged to entities authorized to request information from the National Practitioner Data Bank (NPDB) for all queries. The new fee will be $5.00 and there, will be no change to the $10.00 self-query fee.

The current fee structure ($4.00 per name) was announced in the Federal Register on January 29, 1998 (63 FR 4460). All entity queries are submitted and query responses received through the NPDB's Integrated Query and Reporting Service (IQRS) and paid via an electronic funds transfer or credit card.

The NPDB is authorized by the Health Care Quality Improvement Act of 1986 (the Act), Title IV of Public Law 99-660, as amended (42 U.S.C. 11101 et seq.). Section 427(b)(4) of the Act authorizes the establishment of fees for the costs of processing requests for disclosure and of providing such information.

Final regulations at 45 CFR part 60 set forth the criteria and procedures for information to be reported to and disclosed by the NPDB. Section 60.3 of these regulations defines the terms used in this announcement.

In determining any changes in the amount of the user fee, the Department uses the criteria set forth in § 60.12 (b) of the regulations, as well as allowable costs pursuant to Title II of the Labor, Health and Human Services, Education, and Related Agencies Appropriations Bill for Fiscal Year 2001, P.L. 106-554, enacted Dec. 21, 2000. This Act requires that the Department recover the full costs of operating the Data Bank through user fees. Paragraph (b) of the regulations states:

“The amount of each fee will be determined based on the following criteria:

(1) Use of electronic data processing equipment to obtain information—the actual cost for the service, including computer search time, runs, printouts, and time of computer programmers and operators, or other employees,

(2) Photocopying or other forms of reproduction, such as magnetic tapes—actual cost of the operator's time, plus the cost of the machine time and the materials used,

(3) Postage—actual cost, and

(4) Sending information by special methods requested by the applicant, such as express mail or electronic transfer the actual cost of the special service.”

Based on analysis of the comparative costs of the various methods for filing and paying for queries, the Department is raising all the entity query fees by $1.00 per name. The practitioner self-query fee remains at $10. This price increase is necessitated by increased technical labor costs, equipment upgrades, and improvements to the NPDB's computer system. Since the last fee increase, the system has been migrated from QPRAC, a dial-up client server system, to the web-based IQRS. The IQRS provides a secure mechanism for faster, more convenient, reporting and querying.

This change is effective October 1, 2001.

When a query is for information on one or more physicians, dentists, or other health care practitioners, the appropriate fee will be $5.00 multiplied by the number of individuals about whom information is being requested. For examples, see the table below.

The Department will continue to review the user fee periodically, and will revise it as necessary. Any changes in the fee and their effective date will be announced in the Federal Register.

Query method | Fee per name in query | Examples
Entity query (Via Internet with electronic payment). | $5.00 | 10 names in query. 10x$5=$50.00.
Practitioner self-query | 10.00 | One self-query=$10.00.

Dated: July 6, 2001.
Elizabeth M. Duke,
Acting Administrator.

[FR Doc. 01-17409 Filed 7-10-01; 8:45 am]

BILLING CODE 4160-15-P